DEPARTMENT OF ENERGY

Federal Energy Regulatory Commission

Notice of Application Tendered for Filing With the Commission and Soliciting Additional Study Requests

September 12, 2000.

Take notice that the following hydroelectric application has been filed with the Commission and is available for public inspection:

a. Type of Application: Subsequent License.

b. Project No.: 2652-007.

c. Date filed: August 30, 2000.

d. Applicant: PacifiCorp.

e. Name of Project: Bigfork Hydroelectric Project.

f. Location: Swan River/Flathead Lake, Flathead County, Montana. The project does not occupy any federal lands.

g. Filed Pursuant to: Federal Power Act, 16 USC § 791(a)-825(r).

h. Applicant Contact: Michael B. Burke, Project Manager, PacifiCorp, 825 NE. Multnomah, Suite 1500, Portland, OR 97232.

i. FERC Contact: Any questions on this notice should be addressed to Steve Hocking, e-mail address steve.hocking@ferc.fed.us. or telephone (202) 219-2656.

j. Deadline for filing additional study requests: October 29, 2000.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the Project: The project consists of (1) a 12-foot-high, 300-foot-long concrete diversion dam with a 235-foot-long spillway; (2) a reservoir with 73 surface acres; (3) a water intake structure and 1-mile-long flowline; (4) a forebay structure that directs water into three steel penstocks; (5) a brick powerhouse with three turbine/generator units with a total installed capacity of 4,150 kilowatts; (6) a fish ladder on the right abutment (north end of the dam) and; (7) appurtenant facilities.

m. Locations of the application: A copy of the application is available for inspection and reproduction at the Commission's Public Reference Room, located at 888 First Street, NE, Room 2A, Washington, D.C. 20426, or by calling (202) 208-1371. The application may be viewed on the web at http://www.ferc.fed.us/online/rims.htm (call (202) 208-2222 for assistance). A copy is also available for inspection and reproduction at the address in item h above.

n. With this notice, we are initiating consultation with the State Historic Preservation Officer as required by § 106, National Historic Preservation Act, and the regulations of the Advisory Council on Historic Preservation, 36 CFR 800.3.

o. Procedural schedule and final amendments: The application will be processed according to the following milestones, some of which may be combined to expedite processing:

Notice that the application has been accepted for filing

Notice of National Environmental Policy Act (NEPA) scoping

Notice that the application is ready for environmental analysis

Notice of the availability of the draft NEPA document

Notice of the availability of the final NEPA document

Order issuing the Commission's decision on the application.

Final amendments to the application must be filed with the Commission within 30 days of the notice that the application is ready for environmental analysis.

Linwood A. Watson, Jr.,
Acting Secretary.

[FR Doc. 00-23869 Filed 9-15-00; 8:45 am]

BILLING CODE 6717-01-M